DEPARTMENT OF THE TREASURY

Internal Revenue Service

Proposed Collection; Comment Request for Forms 1065, 1065-B, 1066, 1120, 1120-C, 1120-F, 1120-FSC, 1120-H, 1120-L, 1120-ND, 1120-PC, 1120-POL, 1120-S, 1120-SF, 1120-REIT, 1120-RIC, and Related Attachments

AGENCY: Internal Revenue Service (IRS), Treasury.

ACTION: Notice and request for comments.

SUMMARY: The Internal Revenue Service, as part of its continuing effort to reduce paperwork and respondent burden, invites the general public and other Federal agencies to take this opportunity to comment on proposed and continuing information collections, as required by the Paperwork Reduction Act of 1995 (PRA). This notice requests comments on all forms used by business entity taxpayers:

Forms 1065, 1065-B, 1066, 1120, 1120-C, 1120-F, 1120-FSC, 1120-H, 1120-L, 1120-ND, 1120-PC, 1120-POL, 1120-S, 1120-SF, 1120-REIT, 1120-RIC; and all attachments to these forms (see the Appendix to this notice). With this notice, the IRS is also announcing significant changes to (1) the manner in which tax forms used by business taxpayers will be approved under the PRA and (2) its method of estimating the paperwork burden imposed on all business taxpayers.

DATES: Written comments should be received on or before July 25, 2017 to be assured of consideration.

ADDRESSES: Direct all written comments to Laurie Brimmer, Internal Revenue Service, Room 6526, 1111 Constitution Avenue NW., Washington, DC 20224.

Requests for additional information or copies of the form and instructions should be directed to Sara Covington, at Internal Revenue Service, Room 6526, 1111 Constitution Avenue NW., Washington, DC 20224, or through the internet, at Sara.L.Covington@irs.gov.

SUPPLEMENTARY INFORMATION:

Change in PRA Approval of Forms Used by Business Taxpayers

Under the PRA, OMB assigns a control number to each “collection of information” that it reviews and approves for use by an agency. A single information collection may consist of one or more forms, recordkeeping requirements, and/or third-party disclosure requirements. Under the PRA and OMB regulations, agencies have the discretion to seek separate OMB approvals for business forms, recordkeeping requirements, and third-party reporting requirements or to combine any number of forms, recordkeeping requirements, and/or third-party disclosure requirements (usually related in subject matter) under one OMB Control Number. Agency decisions on whether to group individual requirements under a single OMB Control Number or to disaggregate them and request separate OMB Control Numbers are based largely on considerations of administrative practicality.

The PRA also requires agencies to estimate the burden for each collection of information. Accordingly, each OMB Control Number has an associated burden estimate. The burden estimates for each control number are displayed in (1) the PRA notices that accompany collections of information, (2) Federal Register notices such as this one, and (3) in OMB's database of approved information collections. If more than one form, recordkeeping requirement, and/or third-party disclosure requirement is approved under a single control number, then the burden estimate for that control number reflects the burden associated with all of the approved forms, recordkeeping requirements, and/or third-party disclosure requirements.

As described below under the heading “New Burden Model,” the IRS's new Business Taxpayer Burden Model (BTBM) estimates of taxpayer burden are based on taxpayer characteristics and activities, taking into account, among other things, the forms and schedules generally used by those groups of business taxpayers and the recordkeeping and other activities needed to complete those forms. The BTBM represents the second phase of a long-term effort to improve the ability of IRS to measure the burden imposed on various groups of taxpayers by the federal tax system. While the new methodology provides a more accurate and comprehensive description of business taxpayer burden, it will not provide burden estimates on a form-by-form basis, as has been done under the previous methodology. When the prior model was developed in the mid-1980s, almost all tax returns were prepared manually, either by the taxpayer or a paid provider. In this context, it was determined that estimating burden on a form-by-form basis was an appropriate methodology. Today, over 90 percent of all business entity tax returns are prepared using software or with preparer assistance. In this environment, in which many taxpayers' activities are no longer as directly associated with particular forms, estimating burden on a form-by-form basis is not an appropriate measurement of taxpayer burden. The new model, which takes into account broader and more comprehensive taxpayer characteristics and activities, provides a much more accurate and useful estimate of taxpayer burden.

Currently, there are 231 forms used by business taxpayers. These include Forms 1065, 1065-B, 1066, 1120, 1120-C, 1120-F, 1120-H, 1120-ND, 1120-S, 1120-SF, 1120-FSC, 1120-L, 1120-PC, 1120-REIT, 1120-RIC, 1120-POL, and their schedules and all the forms business entity taxpayers attach to their tax returns (see the Appendix to this notice). For most of these forms, IRS has in the past obtained separate OMB approvals under unique OMB Control Numbers and separate burden estimates.

The BTBM estimates the aggregate burden imposed on business taxpayers, based upon their tax-related characteristics and activities. IRS therefore will seek OMB approval of all 231 business-related tax forms as a single “collection of information.” The aggregate burden of these tax forms will be accounted for under OMB Control Number 1545-0123, which is currently assigned to Form 1120 and its schedules. OMB Control Number 1545-0123 will be displayed on all business tax forms and other information collections. As a result of this change, burden estimates for business taxpayers will now be displayed differently in PRA Notices on tax forms and other information collections, and in Federal Register notices. This new way of displaying burden is presented below under the heading “Proposed PRA Submission to OMB.” Because some of the forms used by business taxpayers are also used by tax-exempt organizations, trusts and estates and other kinds of taxpayers, there will be a transition period during which IRS will report different burden estimates for individual taxpayers (OMB Control Number 1545-0074), business taxpayers (OMB Control Number 1545-0123), and another OMB Control Number for other taxpayers using the same forms. For those forms covered under OMB Control Numbers 1545-0074 and/or 1545-0123 and also used by other taxpayers, IRS will display the OMB Control Number related to the other filers on the form and provide the burden estimate for those taxpayers in the form instructions. The form instructions will refer readers to the burden estimates for individual and/or business taxpayers, as applicable. The burden estimates for business taxpayers will be reported and accounted for as described in this notice. The burden estimates for individual taxpayers will continue to be reported and accounted for under OMB Control Number 1545-0074 using a method similar to the method described in this notice. The burden estimates for other users of these forms will be determined under prior methodology based on form length and complexity.

New Burden Model

Data from the new BTBM revise the estimates of the levels of burden experienced by business taxpayers when complying with the federal tax laws. It replaces the earlier burden measurement developed in the mid-1980s. Since that time, improved technology and modeling sophistication have enabled the IRS to improve the burden estimates. The new model provides taxpayers and the IRS with a more comprehensive understanding of the current levels of taxpayer burden. It reflects major changes over the past two decades in the way taxpayers prepare and file their returns. The new BTBM also represents a substantial step forward in the IRS's ability to assess likely impacts of administrative and legislative changes on business taxpayers.

The BTBM's approach to measuring burden focuses on the characteristics and activities of business taxpayers rather than the forms they use. Key determinants of taxpayer burden in the model are the type of entity, total assets, total receipts, and activities reported on the tax return (income, deductions, credits, etc.). In contrast, the previous estimates primarily focused on the length and complexity of each tax form. The changes between the old and new burden estimates are due to the improved ability of the new methodology to measure burden and the expanded scope of what is measured. These changes create a one-time shift in the estimate of burden levels that reflects the better measurement of the new model. The differences in estimates between the models do not reflect any change in the actual burden experienced by taxpayers. Comparisons should not be made between these and the earlier published estimates, because the models measure burden in different ways.

Methodology

Burden is defined as the time and out-of-pocket costs incurred by taxpayers to comply with the federal tax system. As has been done for individual taxpayer burden since 2005, both the time expended and the out-of-pocket costs for business taxpayers are estimated. The burden estimation methodology relies on surveys that measure time and out-of-pocket costs that taxpayers spend on pre-filing and filing activities. The methodology establishes econometric relationships between tax return characteristics and reported compliance costs. The methodology controls for the substitution of time and money by monetizing time and reporting total compliance costs in dollars. This methodology better reflects taxpayer compliance burden, because in a world of electronic tax preparation, time and out-of-pocket costs are governed by the information required rather than the form on which it is ultimately reported. Importantly, even where various businesses complete the same tax form lines, the new methodology differentiates the cost incurred to complete those forms based on characteristics of those businesses. Key business characteristics that serve as coefficients in the BTBM are:

• Entity type

• Total assets

• Total receipts

• Return complexity

The new model uses the following classifications of business taxpayers:

• Partnerships (Forms 1065, 1065-B, 1066)

• Taxable corporations (Forms 1120, 1120-C, 1120-F, 1120-H, 1120-ND, 1120-SF, 1120-FSC, 1120-L, 1120-PC, 1120-POL)

• Pass-through corporations (Forms 1120-REIT, 1120-RIC, 1120-S)

Each classification is further refined to separate large and small businesses, where a large business is generally defined as one having end of year assets totaling more than $10 million.

Taxpayer Burden Estimates

Tables 1, 2, and 3 below show the burden model estimates for each of the three classifications of business taxpayers. The data shown are the best estimates for 2017 business entity income tax returns available as of January 2017. The estimates are subject to change as new forms and data become available.

Proposed PRA Submission to OMB

Title: U.S. Business Income Tax Return.

OMB Number: 1545-0123.

Form Numbers: Forms 1065, 1065-B, 1066, 1120, 1120-C, 1120-F, 1120-H, 1120-ND, 1120-S, 1120-SF, 1120-FSC, 1120-L, 1120-PC, 1120-REIT, 1120-RIC, 1120-POL and all attachments to these forms (see the Appendix to this notice).

Abstract: These forms are used by businesses to report their income tax liability. The data is used to verify that the items reported on the forms are correct, and also for general statistics use.

Current Actions: Changes are being made to the forms and the method of burden computation.

Type of Review: Revision of currently approved collections.

Affected Public: Businesses.

Estimated Number of Respondents: 11,000,000.

Total Estimated Time: 3.040 billion hours.

Estimated Time per Respondent: 276 hours.

Total Estimated Out-of-Pocket Costs: $53.64 billion.

Estimated Out-of-Pocket Cost per FY2017. Respondent: $4,876.

Note: Amounts below are for FY2017. Reported time and cost burdens are national averages and do not necessarily reflect a “typical” case. Most taxpayers experience lower than average burden, with taxpayer burden varying considerably by taxpayer type. Detail may not add due to rounding.

Table 1
Primary form filed or type of taxpayer | Number of returns (millions) | Burden: Average time | Burden: Average cost
All Partnerships | 3.9 | 290 | 5,700
Small | 3.7 | 270 | 4,400
Large* | 0.2 | 610 | 29,000
Forms 1065, 1065-B, 1066 and all attachments.

Table 2
Primary form filed or type of taxpayer | Number of returns (millions) | Burden: Average time | Burden: Average cost
All Taxable Corporations | 2.1 | 315 | 6,300
Small | 2 | 280 | 4,000
Large* | 0.1 | 1,250 | 68,900
Forms 1120, 1120-C, 1120-F, 1120-H, 1120-ND, 1120-SF, 1120-FSC, 1120-L, 1120-PC, 1120-POL and all attachments.

Table 3
Primary form filed or type of taxpayer | Number of returns (millions) | Burden: Average time | Burden: Average cost
All Pass-Through Corporations | 4.9 | 245 | 3,500
Small | 4.8 | 240 | 3,100
Large* * | 0.1 | 610 | 30,800
Forms 1120-REIT, 1120-RIC, 1120-S and all attachments
* A large business is defined as one having end of year assets greater than $10 million.

An agency may not conduct or sponsor, and a person is not required to respond to, a collection of information unless the collection of information displays a valid OMB Control Number.

Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: May 18, 2017.
Laurie Brimmer,
Senior Tax Analyst.

Appendix
Product | Title
Form 1000 | Ownership Certificate.
Form 1042 | Annual Withholding Tax Return for U.S. Source Income of Foreign Persons.
Form 1065 | U.S. Return of Partnership Income.
Form 1065 (SCH B-1) | Information for Partners Owning 50% or More of the Partnership.
Form 1065 (SCH C) | Additional Information for Schedule M-3 Filers.
Form 1065 (SCH D) | Capital Gains and Losses.
Form 1065 (SCH K-1) | Partner's Share of Income, Deductions, Credits, etc.
Form 1065 (SCH M-3) | Net Income (Loss) Reconciliation for Certain Partnerships.
Form 1065B | U.S. Return of Income for Electing Large Partnerships.
Form 1065B (SCH K-1) | Partner's Share of Income (Loss) From an Electing Large Partnership.
Form 1065X | Amended Return or Administrative Adjustment Request (AAR).
Form 1066 | U.S. Real Estate Mortgage Investment Conduit (REMIC) Income Tax Return.
Form 1066 (SCH Q) | Quarterly Notice to Residual Interest Holder of REMIC Taxable Income or Net Loss Allocation.
Form 1118 | Foreign Tax Credit-Corporations.
Form 1118 (SCH I) | Reduction of Foreign Oil and Gas Taxes.
Form 1118 (SCH J) | Adjustments to Separate Limitation Income (Loss) Categories for Determining Numerators of Limitation Fractions, Year-End Recharacterization Balances, and Overall Foreign and Domestic Loss Account Balances.
Form 1118 (SCH K) | Foreign Tax Carryover Reconciliation Schedule.
Form 1120 | U.S. Corporation Income Tax Return.
Form 1120 (SCH B) | Additional Information for Schedule M-3 Filers.
Form 1120 (SCH D) | Capital Gains and Losses.
Form 1120 (SCH G) | Information on Certain Persons Owning the Corporation's Voting Stock.
Form 1120 (SCH H) | Section 280H Limitations for a Personal Service Corporation (PSC).
Form 1120 (SCH M-3) | Net Income (Loss) Reconciliation for Corporations With Total Assets of $10 Million of More.
Form 1120 (SCH N) | Foreign Operations of U.S. Corporations.
Form 1120 (SCH O) | Consent Plan and Apportionment Schedule for a Controlled Group.
Form 1120 (SCH PH) | U.S. Personal Holding Company (PHC) Tax.
Form 1120 (SCH UTP) | Uncertain Tax Position Statement.
Form 1120-C | U.S. Income Tax Return for Cooperative Associations.
Form 1120F | U.S. Income Tax Return of a Foreign Corporation.
Form 1120-F (SCH H) | Deductions Allocated to Effectively Connected Income Under Regulations Section 1.861-8.
Form 1120-F (SCH I) | Interest Expense Allocation Under Regulations Section 1.882-5.
Form 1120-F (SCH M1 & M2) | Reconciliation of Income (Loss) and Analysis of Unappropriated Retained Earnings per Books.
Form 1120-F (SCH M-3) | Net Income (Loss) Reconciliation for Foreign Corporations With Reportable Assets of $10 Million or More.
Form 1120-F (SCH P) | List of Foreign Partner Interests in Partnerships.
Form 1120F(SCH S) | Exclusion of Income From the International Operation of Ships or Aircraft Under Section 883.
Form 1120F(SCH V) | List of Vessels or Aircraft, Operators, and Owners.
Form 1120FSC | U.S. Income Tax Return of a Foreign Sales Corporation.
Form 1120FSC (SCH P) | Transfer Price or Commission.
Form 1120H | U.S. Income Tax Return for Homeowners Associations.
Form 1120ICD (SCH K) | Shareholder's Statement of IC-DISC Distributions.
Form 1120ICD (SCH P) | Intercompany Transfer Price or Commission.
Form 1120IC-DISC | Interest Charge Domestic International Sales Corporation Return.
Form 1120-IC-DISC (SCH Q) | Borrower's Certificate of Compliance With the Rules for Producer's Loans.
Form 1120L | U.S. Life Insurance Company Income Tax Return.
Form 1120-L (SCH M-3) | Net Income (Loss) Reconciliation for U.S. Life Insurance Companies With Total Assets of $10 Million or More.
Form 1120ND | Return for Nuclear Decommissioning Funds and Certain Related Persons.
Form 1120PC | U.S. Property and Casualty Insurance Company Income Tax Return.
Form 1120-PC (SCH M-3) | Net Income (Loss) Reconciliation for U.S. Property and Casualty Insurance Companies With Total Assets of $10 Million or More.
Form 1120POL | U.S. Income Tax Return for Certain Political Organizations.
Form 1120REIT | U.S. Income Tax Return for Real Estate Investment Trusts.
Form 1120RIC | U.S. Income Tax Return for Regulated Investment Companies.
Form 1120S | U.S. Income Tax Return for an S Corporation.
Form 1120S (SCH B-1) | Information on Certain Shareholders of an S Corporation.
Form 1120S (SCH D) | Capital Gains and Losses and Built-In Gains.
Form 1120S (SCH K-1) | Shareholder's Share of Income, Deductions, Credits, etc.
Form 1120S (SCH M-3) | Net Income (Loss) Reconciliation for S Corporations With Total Assets of $10 Million or More.
Form 1120SF | U.S. Income Tax Return for Settlement Funds (Under Section 468B).
Form 1120W | Estimated Tax for Corporations.
Form 1120X | Amended U.S. Corporation Income Tax Return.
Form 1122 | Authorization and Consent of Subsidiary Corporation to be Included in a Consolidated Income Tax Return.
Form 1125-A | Cost of Goods Sold.
Form 1125-E | Compensation of Officers.
Form 1127 | Application for Extension of Time for Payment of Tax.
Form 1128 | Application to Adopt, Change, or Retain a Tax Year.
Form 1138 | Extension of Time For Payment of Taxes By a Corporation Expecting a Net Operating Loss Carryback.
Form 1139 | Corporation Application for Tentative Refund.
Form 2220 | Underpayment of Estimated Tax By Corporations.
Form 2438 | Undistributed Capital Gains Tax Return.
Form 2553 | Election by a Small Business Corporation.
Form 2848 | Power of Attorney and Declaration of Representative.
Form 3115 | Application for Change in Accounting Method.
Form 3468 | Investment Credit.
Form 3520 | Annual Return To Report Transactions With Foreign Trusts and Receipt of Certain Foreign Gifts.
Form 3800 | General Business Credit.
Form 4136 | Credit For Federal Tax Paid On Fuels.
Form 4255 | Recapture of Investment Credit.
Form 4466 | Corporation Application for Quick Refund of Overpayment of Estimated Tax.
Form 4562 | Depreciation and Amortization (Including Information on Listed Property).
Form 4626 | Alternative Minimum Tax—Corporations.
Form 4684 | Casualties and Thefts.
Form 4797 | Sales of Business Property.
Form 4810 | Request for Prompt Assessment Under Internal Revenue Code Section 6501(d).
Form 4876A | Election to Be Treated as an Interest Charge DISC.
Form 5452 | Corporate Report of Nondividend Distributions.
Form 5471 | Information Return of U.S. Persons With Respect To Certain Foreign Corporations.
Form 5471 (SCH J) | Accumulated Earnings and Profits (E&P) of Controlled Foreign Corporation.
Form 5471 (SCH M) | Transactions Between Controlled Foreign Corporation and Shareholders or Other Related Persons.
Form 5471 (SCH O) | Organization or Reorganization of Foreign Corporation, and Acquisitions and Dispositions of its Stock.
Form 5472 | Information Return of a 25% Foreign-Owned U.S. Corporation or a Foreign Corporation Engaged in a U.S. Trade or Business.
Form 56 | Notice Concerning Fiduciary Relationship.
Form 56A | Notice Concerning Fiduciary Relationship—Illinois Type Land Trust.
Form 56F | Notice Concerning Fiduciary Relationship of Financial Institution.
Form 5713 | International Boycott Report.
Form 5713 (SCH A) | International Boycott Factor (Section 999(c)(1)).
Form 5713 (SCH B) | Specifically Attributable Taxes and Income (Section 999(c)(2)).
Form 5713 (SCH C) | Tax Effect of the International Boycott Provisions.
Form 5735 | American Samoa Economic Development Credit.
Form 5884 | Work Opportunity Credit.
Form 5884-B | New Hire Retention Credit.
Form 6198 | At-Risk Limitations.
Form 6478 | Alcohol and Cellulosic Biofuel Fuels Credit.
Form 6627 | Environmental Taxes.
Form 6765 | Credit for Increasing Research Activities.
Form 6781 | Gains and Losses From Section 1256 Contracts and Straddles.
Form 7004 | Application for Automatic Extension of Time To File Certain Business Income Tax, Information, and Other Returns.
Form 8023 | Elections Under Section 338 for Corporations Making Qualified Stock Purchases.
Form 8050 | Direct Deposit Corporate Tax Refund.
Form 8082 | Notice of Inconsistent Treatment or Administrative Adjustment Request (AAR).
Form 8275 | Disclosure Statement.
Form 8275R | Regulation Disclosure Statement.
Form 8283 | Noncash Charitable Contributions.
Form 8288 | U.S. Withholding Tax Return for Dispositions by Foreign Persons of U.S. Real Property Interests.
Form 8288B | Application for Withholding Certificate for Dispositions by Foreign Persons of U.S. Real Property Interests.
Form 8300 | Report of Cash Payments Over $10,000 Received In a Trade or Business.
Form 8302 | Electronic Deposit of Tax Refund of $1 Million or More.
Form 8308 | Report of a Sale or Exchange of Certain Partnership Interests.
Form 8329 | Lender's Information Return for Mortgage Credit Certificates (MCCs).
Form 8404 | Interest Charge on DISC-Related Deferred Tax Liability.
Form 8453-B | U.S. Electing Large Partnership Declaration for an IRS e-file Return.
Form 8453C | U.S. Corporation Income Tax Declaration for an IRS e-file Return.
Form 8453-I | Foreign Corporation Income Tax Declaration for an IRS e-file Return.
Form 8453-PE | U.S. Partnership Declaration for an IRS e-file Return.
Form 8453S | U.S. S Corporation Income Tax Declaration for an IRS e-file Return.
Form 8453X | Political Organization Declaration for Electronic Filing of Notice of Section 527 Status.
Form 851 | Affiliations Schedule.
Form 8586 | Low-Income Housing Credit.
Form 8594 | Asset Acquisition Statement Under Section 1060.
Form 8609 | Low-Income Housing Credit Allocation and Certification.
Form 8609-A | Annual Statement for Low-Income Housing Credit.
Form 8611 | Recapture of Low-Income Housing Credit.
Form 8621 | Return By Shareholder of a Passive Foreign Investment Company or Qualified Electing Fund.
Form 8621-A | Return by a Shareholder Making Certain Late Elections to End Treatment as a Passive Foreign Investment Company.
Form 8655 | Reporting Agent Authorization.
Form 8693 | Low-Income Housing Credit Disposition Bond.
Form 8697 | Interest Computation Under the Look-Back Method for Completed Long-Term Contracts.
Form 8703 | Annual Certification of a Residential Rental Project.
Form 8716 | Election To Have a Tax Year Other Than a Required Tax Year.
Form 8752 | Required Payment or Refund Under Section 7519.
Form 8804 | Annual Return for Partnership Withholding Tax (Section 1446).
Form 8804 (SCH A) | Penalty for Underpayment of Estimated Section 1446 Tax for Partnerships.
Form 8804-W | Installment Payments of Section 1446 Tax for Partnerships.
Form 8805 | Foreign Partner's Information Statement of Section 1446 Withholding tax.
Form 8806 | Information Return for Acquisition of Control or Substantial Change in Capital Structure.
Form 8810 | Corporate Passive Activity Loss and Credit Limitations.
Form 8813 | Partnership Withholding Tax Payment Voucher (Section 1446).
Form 8816 | Special Loss Discount Account and Special Estimated Tax Payments for Insurance Companies.
Form 8819 | Dollar Election Under Section 985.
Form 8820 | Orphan Drug Credit.
Form 8822B | Change of Address—Business.
Form 8824 | Like-Kind Exchanges.
Form 8825 | Rental Real Estate Income and Expenses of a Partnership or an S Corporation.
Form 8826 | Disabled Access Credit.
Form 8827 | Credit for Prior Year Minimum Tax-Corporations.
Form 8830 | Enhanced Oil Recovery Credit.
Form 8832 | Entity Classification Election.
Form 8833 | Treaty-Based Return Position Disclosure Under Section 6114 or 7701(b).
Form 8834 | Qualified electric Vehicle Credit.
Form 8835 | Renewable Electricity, Refined Coal, and Indian Coal Production Credit.
Form 8838 | Consent to Extend the Time To Assess Tax Under Section 367-Gain Recognition Agreement.
Form 8842 | Election to Use Different Annualization Periods for Corporate Estimated Tax.
Form 8844 | Empowerment Zone and Renewal Community Employment Credit.
Form 8845 | Indian Employment Credit.
Form 8848 | Consent to Extend the Time to Assess the Branch Profits Tax Under Regulations Sections 1.884-2(a) and (c).
Form 8846 | Credit for Employer Social Security and Medicare Taxes Paid on Certain Employee Tips.
Form 8858 | Transactions Between Foreign Disregarded Entity of a Foreign Tax Owner and the Filer or Other Related Entities.
Form 8858 (SCH M) | Transactions Between Foreign Disregarded Entity of a Foreign Tax Owner and the Filer or Other Related Entities.
Form 8864 | Biodiesel and Renewable Diesel Fuels Credit.
Form 8865 | Return of U.S. Persons With Respect to Certain Foreign Partnerships.
Form 8865 (SCH K-1) | Partner's Share of Income, Credits, Deductions, etc.
Form 8865 (SCH O) | Transfer of Property to a Foreign Partnership.
Form 8865 (SCH P) | Acquisitions, Dispositions, and Changes of Interests in a Foreign Partnership.
Form 8866 | Interest Computation Under the Look-Back Method for Property Depreciated Under the Income Forecast Method.
Form 8869 | Qualified Subchapter S Subsidiary Election.
Form 8871 | Political Organization Notice of Section 527 Status.
Form 8872 | Political Organization Report of Contributions and Expenditures.
Form 8873 | Extraterritorial Income Exclusion.
Form 8874 | New Markets Credit.
Form 8875 | Taxable REIT Subsidiary Election.
Form 8878-A | IRS e-file Electronic Funds Withdrawal Authorization for Form 7004.
Form 8879-B | IRS e-file Signature Authorization for Form 1065-B.
Form 8879C | IRS e-file Signature Authorization for Form 1120.
Form 8879-I | IRS e-file Signature Authorization for Form 1120-F.
Form 8879-PE | IRS e-file Signature Authorization for Form 1065.
Form 8879S | IRS e-file Signature Authorization for Form 1120S.
Form 8881 | Credit for Small Employer Pension Plan Startup Costs.
Form 8882 | Credit for Employer-Provided Childcare Facilities and Services.
Form 8883 | Asset Allocation Statement Under Section 338.
Form 8886 | Reportable Transaction Disclosure Statement.
Form 8893 | Election of Partnership Level Tax Treatment.
Form 8894 | Request to Revoke Partnership Level Tax Treatment Election.
Form 8896 | Low Sulfur Diesel Fuel Production Credit.
Form 8900 | Qualified Railroad Track Maintenance Credit.
Form 8902 | Alternative Tax on Qualified Shipping Activities.
Form 8903 | Domestic Production Activities Deduction.
Form 8906 | Distilled Spirits Credit.
Form 8907 | Nonconventional Source Fuel Credit.
Form 8908 | Energy Efficient Home Credit.
Form 8909 | Energy Efficient Appliance Credit.
Form 8910 | Alternative Motor Vehicle Credit.
Form 8911 | Alternative Fuel Vehicle Refueling Property Credit.
Form 8912 | Credit to Holders of Tax Credit Bonds.
Form 8916 | Reconciliation of Schedule M-3 Taxable Income with Tax Return Taxable Income for Mixed Groups.
Form 8916-A | Supplemental Attachment to Schedule M-3.
Form 8918 | Material Advisor Disclosure Statement.
Form 8923 | Mining Rescue Team Training Credit.
Form 8925 | Report of Employer-Owned Life Insurance Contracts.
Form 8926 | Disqualified Corporate Interest Expense Disallowed Under Section 163(j) and Related Information.
Form 8927 | Determination Under Section 860(e)(4) by a Qualified Investment Entity.
Form 8931 | Agricultural Chemicals Security Credit.
Form 8932 | Credit for Employer Differential Wage Payments.
Form 8933 | Carbon Dioxide Sequestration Credit.
Form 8936 | Qualified Plug-In Electric Drive Motor Vehicle Credit.
Form 8937 | Report of Organizational Actions Affecting Basis.
Form 8938 | Statement of Foreign Financial Assets.
Form 8941 | Credit for Small Employer Health Insurance Premiums.
Form 8942 | Application for Certification of Qualified Investments Eligible for Credits and Grants Under the Qualifying Therapeutic Discovery Project.
Form 8947 | Report of Branded Prescription Drug Information.
Form 8949 | Sales and Other Dispositions of Capital Assets.
Form 926 | Return by a U.S. Transferor of Property to a Foreign Corporation.
Form 966 | Corporate Dissolution or Liquidation.
Form 970 | Application to Use LIFO Inventory Method.
Form 972 | Consent of Shareholder to Include Specific Amount in Gross Income.
Form 973 | Corporation Claim for Deduction for Consent Dividends.
Form 976 | Claim for Deficiency Dividends Deductions by a Personal Holding Company, Regulated Investment Company, or Real Estate Investment Trust.
Form 982 | Reduction of Tax Attributes Due to Discharge of Indebtedness (and Section 1082 Basis Adjustment).
Form SS-4 | Application for Employer Identification Number.
Form T (TIMBER) | Forest Activities Schedule.
Form W-8BEN | Certificate of Foreign Status of Beneficial Owner for United States Tax Withholding.
Form W-8BEN(E) | Certificate of Entities Status of Beneficial Owner for United States Tax Withholding (Entities).
Form W-8ECI | Certificate of Foreign Person's Claim That Income is Effectively Connected With the Conduct of a Trade or Business in the United States.
Form W-8IMY | Certificate of Foreign Intermediary, Foreign Flow-Through Entity, or Certain U.S. Branches for United States Tax Withholding.

[FR Doc. 2017-10789 Filed 5-25-17; 8:45 am]

BILLING CODE 4830-01-P